DEPARTMENT OF THE INTERIOR

Minerals Management Service

Notice on Outer Continental Shelf (OCS) Oil and Gas Lease Sales

AGENCY: Minerals Management Service, Interior.

ACTION: List of restricted joint bidders.

SUMMARY: Pursuant to the authority vested in the Director of the MMS by the joint bidding provisions of 30 CFR 256.41, each entity within one of the following groups shall be restricted from bidding with any entity in any other of the following groups at OCS oil and gas lease sales to be held during the bidding period May 1, 2005, through October 31, 2005. The List of Restricted Joint Bidders published October 18, 2004, in the Federal Register at 69 FR 61402 covered the period November 1, 2004, through April 31, 2005.

Group I.

Exxon Mobil Corporation.

ExxonMobil Exploration Company.

Group II.

Shell Oil Company.

Shell Offshore Inc.

SWEPI LP.

Shell Frontier Oil & Gas Inc.

Shell Consolidated Energy Resources Inc.

Shell Land & Energy Company.

Shell Onshore Ventures Inc.

Shell Offshore Properties and Capital II, Inc.

Shell Rocky Mountain Production LLC.

Shell Gulf of Mexico Inc.

Group III.

BP America Production Company.

BP Exploration & Production Inc.

BP Exploration (Alaska) Inc.

Group IV.

TOTAL E&P USA, Inc.

Group V.

ChevronTexaco Corporation.

Chevron U.S.A. Inc.

Texaco Inc.

Texaco Exploration and Production Inc.

Group VI.

ConocoPhillips Company.

Group VII.

Eni Petroleum Co. Inc.

Eni Petroleum Exploration Co. Inc.

Eni Deepwater LLC.

Eni Oil USA LLC.

Dated: April 14, 2005.
R.M. “Johnnie” Burton,
Director, Minerals Management Service.

[FR Doc. 05-8776 Filed 5-2-05; 8:45 am]

BILLING CODE 4310-MR-P